DEPARTMENT OF HEALTH AND HUMAN SERVICES

Agency for Toxic Substances and Disease Registry

[ATSDR-216]

Public Health Assessments Completed

AGENCY: Agency for Toxic Substances and Disease Registry (ATSDR), Department of Health and Human Services (HHS).

ACTION: Notice.

SUMMARY: This notice announces those sites for which ATSDR has completed public health assessments during the period from July through September 2005. This list includes sites that are on or proposed for inclusion on the National Priorities List (NPL) and includes sites for which assessments were prepared in response to requests from the public.

FOR FURTHER INFORMATION CONTACT: William Cibulas, Jr., PhD., Director, Division of Health Assessment and Consultation, Agency for Toxic Substances and Disease Registry, 1600 Clifton Road, NE., Mailstop E-32, Atlanta, Georgia 30333, telephone (404) 498-0007.

SUPPLEMENTARY INFORMATION: The most recent list of completed public health assessments was published in the Federal Register on September 7, 2005 [70 FR 53197]. This announcement is the responsibility of ATSDR under the regulation “Public Health Assessments and Health Effects Studies of Hazardous Substances Releases and Facilities” [42 CFR part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments are available for public inspection at the Division of Health Assessment and Consultation, Agency for Toxic Substances and Disease Registry, 1825 Century Boulevard, Atlanta, Georgia (not a mailing address), between 8 a.m. and 4:30 p.m., Monday through Friday except legal holidays. Public health assessments are often available for public review at local repositories such as libraries. Many public health assessments are available through ATSDR's Web site at http://www.atsdr.cdc.gov/HAC/PHA/. In addition, the completed public health assessments are available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between July 1, 2005, and September 30, 2005, public health assessments were issued for the following sites:

NPL and Proposed NPL Sites

California

AMCO Chemical Company—(PB2005-100692)

Casmalia Resources Superfund Site—(PB2005-110706)

Concord Naval Weapons Station (a/k/a Naval Weapons Station Seal Beach Detachment Concord)—(PB2005-108881)

Florida

Naval Air Station (NAS) Jacksonville—(PB2005-107543)

Indiana

Conrail Rail Yard—(PB2005-109457)

Maryland

Central Chemical Site—(PB2005-109382)

Massachusetts

Naval Weapons Industrial Reserve Plant Bedford—(PB2005-109459)

Puerto Rico

Cidra Groundwater—(PB2005-110011)

Pesticide Warehouse III—(PB2005-110012)

Washington

Bremerton Naval Complex Including Puget Sound Naval Shipyard—(PB2005-110668)

Non-NPL Petitioned Sites

Alabama

Redstone Army Garrison/Marshall Space Flight Center—(PB2005-107565)

District of Columbia

River Terrace Community—(PB2005-108882)

Illinois

Asarco, Incorporated—(PB2005-107579)

New Jersey

Cedar Brook Area Groundwater Contamination—(PB2005-107580)

Pennsylvania

Bear Creek Chemical Area—(PB2005-108987)

Tennessee

Jersey Miniere Zinc Company (a/k/a Pasminco Clarksville Zinc Plant)—(PB2005-109383)

Dated: November 17, 2005.
Kenneth Rose,
Acting Director, Office of Policy, Planning, and Evaluation, National Center for Environmental Health/Agency for Toxic Substances and Disease Registry.

[FR Doc. E5-6584 Filed 11-25-05; 8:45 am]

BILLING CODE 4163-70-P